DEPARTMENT OF JUSTICE

Notice of Lodging of Consent Decree Under the Comprehensive Environmental Response, Compensation, and Liability Act

Under 42 U.S.C. 9622(d)(2) and 28 C.F.R. 50.7, notice is hereby given that on August 2, 2007, a proposed consent decree in United States v. Waste Management of Wisconsin, Inc., Civil Action Number 07-C-0424-C, was lodged with the United States District Court for the Western District of Wisconsin.

The consent decree resolves claims against Waste Management of Wisconsin, Inc. (“WMWI”) on behalf of the Environmental Protection Agency (“EPA”) under Sections 106 and 107 of the Comprehensive Environmental Response, Compensation, and Liability Act (“CERCLA”), 42 U.S.C. 9606 and 9607, for response action to be taken and response costs to be incurred in responding to the release and threatened release of hazardous substances at the Hagen Farm Superfund Site (“Site”) in Dane County, Wisconsin.

WMWI has been performing the remedial action for the Site under a unilateral administrative order issued by EPA. Under the consent decree, WMWI will complete performance of the Site remedy and will reimburse the United States for response costs the United States will incur at the Site. The consent decree also provides for disbursement to WMWI, if specified conditions are met, of approximately $1.525 million credited to the Site from the proceeds of a prior, separate settlement in In re U.E. Systems, Inc., et al., No. 91-32791 (Bankr. N.D. Ind.). The U.E. Systems settlement required that amounts recovered therein “shall reduce the liability of the non-settling potentially responsible parties * * * by the amount of the credit.” The proposed consent decree with WMWI will implement that provision of the U.E. Systems settlement while also providing the United States with essentially full recovery of all response costs incurred or to be incurred by the United States in connection with the Site.

For a period of thirty (30) days from the date of this publication, the Department of Justice will receive comments relating to the proposed Consent Decree. Comments should be addressed to the Assistant Attorney General, Environment and Natural Resources Division, and either e-mailed to pubcomment-ees.enrd@usdoj.gov or mailed to P.O. Box 7611, U.S. Department of Justice, Washington, DC 20044-7611, and should refer to United States v. Waste Management of Wisconsin, Inc., D.J. Ref. 90-11-2-588/1.

The Consent Decree (including all its Appendices A through N) may be examined at the Office of the United States Attorney for the Western District of Wisconsin, 660 W. Washington Ave., Suite 303, Madison, Wisconsin 53701, and at the Region 5 Office of the Environmental Protection Agency, 77 W. Jackson Blvd., Chicago, Illinois 60604. During the public comment period, the Consent Decree and all Appendices may also be examined on the following Department of Justice Web site: http://www.usdoj.gov/enrd/Consent_Decrees. html. A copy of the Consent Decree may also be obtained by mail from the Consent Decree Library, P.O. Box 7611, U.S. Department of Justice, Washington, DC 20044-7611, or by faxing or e-mailing a request to Tonia Fleetwood, tonia.fleetwood@usdoj.gov, Fax No. (202) 514-0097, phone confirmation number (202) 514-1547. Please enclose a check for $22.25 for the Consent Decree text only, or for $163.25 for the Consent Decree including all attachments (25 cents per page reproduction costs), payable to the U.S. Treasury, or, if by e-mail or fax, forward a check for the appropriate amount to the Consent Decree Library at the stated address.

William D. Brighton,
Assistant Section Chief, Environmental Enforcement Section, Environment and Natural Resources Division.

[FR Doc. 07-3996 Filed 8-14-07; 8:45 am]

BILLING CODE 4410-15-M